DEPARTMENT OF THE INTERIOR

Fish and Wildlife Service

[FWS-R1-ES-2013-N195; FXES11130100000-134-FF01E00000]

Endangered Species; Issuance of Permits

AGENCY: Fish and Wildlife Service, Interior.

ACTION: Notice of issuance of permits.

SUMMARY: We, the U.S. Fish and Wildlife Service, have issued the following permits to conduct certain activities with endangered species under the authority of the Endangered Species Act, as amended (Act).

ADDRESSES: Endangered Species Program Manager, Ecological Services, U.S. Fish and Wildlife Service, Pacific Regional Office, 911 NE 11th Avenue, Portland, OR 97232-4181.

FOR FURTHER INFORMATION CONTACT: Colleen Henson, Fish and Wildlife Biologist, at the above address or by telephone (503-231-6131) or fax (503-231-6243).

SUPPLEMENTARY INFORMATION: We have issued the following permits to conduct activities with endangered species in response to recovery and interstate commerce permit applications we received under the authority of section 10 of the Act (16 U.S.C. 1531 et seq.). These permits were issued between January 1 and June 30, 2013. Each permit listed below was issued only after we determined that it was applied for in good faith; that granting the permit would not be to the disadvantage of the listed species; that the proposed activities were for scientific research or would benefit the recovery or the enhancement of survival of the species, and that the terms and conditions of the permit were consistent with the purposes and policy set forth in the Act.

Applicant name | Permit No. | Date issued | Date expires
Andersen Air Force Base | 84876A | 1/18/2013 | 1/17/2017
Cossell, Lori L. | 95648A | 3/22/2013 | 3/21/2014
Cowlitz Indian Tribe | 98069A | 5/13/2013 | 5/12/2017
Department of Marine And Wildlife Resources; American Samoa | 094808 | 1/25/2013 | 1/24/2016
Haleakala National Park | 014497 | 4/15/2013 | 2/11/2016
Hawaii Wildlife Fund | 829250 | 5/15/2013 | 5/14/2017
Hicks, Tyler Leon | 99474A | 5/8/2013 | 5/7/2017
Naval Facilities Engineering Command Pacific | 096741 | 4/19/2013 | 4/18/2016
Oregon Department Of Fish And Wildlife | 818627 | 5/3/2013 | 5/2/2018
Ridgefield National Wildlife Refuge | 97901A | 5/13/2013 | 12/31/2017
USDA, APHIS, Wildlife Services | 97903A | 5/13/2013 | 5/12/2017
U.S. Geological Survey, WERC | 145562 | 5/8/2013 | 5/7/2016
Washington Department of Fish And Wildlife | 98686A | 5/13/2013 | 5/12/2017
Vanderwerf, Eric A. | 149068 | 2/20/2013 | 2/19/2016

Availability of Documents

Documents and other information submitted with these applications are available for review, subject to the requirements of the Privacy Act and Freedom of Information Act, by any party who submits a written request for a copy of such documents (see FOR FURTHER INFORMATION CONTACT).

Authority

We provide this notice under the authority of section 10 of the Act (16 U.S.C. 1531 et seq.).

Dated: September 10, 2013.
Hugh Morrison,
Regional Director, Pacific Region, U.S. Fish and Wildlife Service.

[FR Doc. 2013-22681 Filed 9-17-13; 8:45 am]

BILLING CODE 4310-55-P